DEPARTMENT OF TRANSPORTATION

Federal Aviation Administration

14 CFR Part 39

[Docket No. FAA-2007-0172; Directorate Identifier 2007-NM-225-AD; Amendment 39-15353; AD 2008-03-04]

RIN 2120-AA64

Airworthiness Directives; Airbus Model A300 B4-600, A300 B4-600R, A300 C4-600R, and A300 F4-600R Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

[T]he FAA has published SFAR 88 (Special Federal Aviation Regulation 88). * * *

Under this regulation, all holders of type certificates for passenger transport aircraft * * * are required to conduct a design review against explosion risks.

The replacement of some types of P-clips and improvement of the electrical bonding of the equipment in the fuel tanks are rendered mandatory by this AD.

The unsafe condition is damage to wiring in the wing, center, and trim fuel tanks, due to failed P-clips used for retaining the wiring and pipes, which could result in a possible fuel ignition source in the wing, center, or trim fuel tanks. We are issuing this AD to require actions to correct the unsafe condition on these products.

DATES: This AD becomes effective March 6, 2008.

The Director of the Federal Register approved the incorporation by reference of certain publications listed in this AD as of March 6, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Discussion

We issued a notice of proposed rulemaking (NPRM) to amend 14 CFR part 39 to include an AD that would apply to the specified products. That NPRM was published in the Federal Register on November 9, 2007 (72 FR 63503). That NPRM proposed to correct an unsafe condition for the specified products. The MCAI states:

[T]he FAA has published SFAR 88 (Special Federal Aviation Regulation 88). In their letters referenced 04/00/02/07/01-L296, dated March 4th, 2002 and 04/00/02/07/03-L024, dated February 3rd, 2003, the JAA (Joint Aviation Authorities) recommended the application of a similar regulation to the National Aviation Authorities (NAA).

Under this regulation, all holders of type certificates for passenger transport aircraft with either a passenger capacity of 30 or more, or a payload capacity of 7,500 pounds (3402 kg) or more, which have received their certification since January 1st, 1958, are required to conduct a design review against explosion risks.

The replacement of some types of P-clips and improvement of the electrical bonding of the equipment in the fuel tanks are rendered mandatory by this AD.

Note: Initially, EASA AD 2006-0325, which addresses the same unsafe condition, also applied to A300-600 aircraft. The approval holder subsequently introduced additional work at revision 1 of SB (service bulletin) A300-28-6064 applicable to A300-600 aircraft. [On September 21, 2007, the FAA issued parallel AD 2007-20-04 for only Airbus Model A300 Airplanes and Model A310 Airplanes, which was published in the Federal Register (72 FR 56258, October 3, 2007).]

As a result, AD 2006-0325 has been revised to remove A300-600 aircraft from applicability, and this new AD applicable to A300-600 aircraft is issued.

The unsafe condition is damage to wiring in the wing, center, and trim fuel tanks, due to failed P-clips used for retaining the wiring and pipes, which could result in a possible fuel ignition source in the wing, center, or trim fuel tanks. The corrective action is checking the electrical bonding points of certain equipment in the center fuel tank for the presence of a blue coat and doing related investigative and corrective actions if necessary. The related investigative action is to measure the electrical resistance between the equipment and structure, if a blue coat is not present. The corrective action is to electrically bond the equipment, if the measured resistance is greater than 10 milliohms. The corrective action also includes installing new bonding leads and electrical bonding points on certain equipment in the left and right wing fuel tanks and center fuel tank. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 114 products of U.S. registry. We also estimate that it will take about 632 work-hours per product to comply with the basic requirements of this AD. The average labor rate is $80 per work-hour. Required parts will cost about $6,870 per product. Where the service information lists required parts costs that are covered under warranty, we have assumed that there will be no charge for these parts. As we do not control warranty coverage for affected parties, some parties may incur costs higher than estimated here. Based on these figures, we estimate the cost of this AD to the U.S. operators to be $6,547,020, or $57,430 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527 is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-03-04 Airbus: Amendment 39-15353. Docket No. FAA-2007-0172; Directorate Identifier 2007-NM-225-AD.

Effective Date

(a) This airworthiness directive (AD) becomes effective March 6, 2008.

Affected ADs

(b) None.

Applicability

(c) This AD applies to the airplanes identified in paragraphs (c)(1) and (c)(2) of this AD.

(1) Airbus Model A300 B4-600 series airplanes (without trim tank), all serial numbers, certificated in any category, except airplanes on which Airbus Modifications 12226, 12365, 12490, and 12308 have been incorporated in production, or Airbus Service Bulletins A300-28-6064, Revision 01, dated April 3, 2007; and A300-28-6068, dated July 20, 2005; have been performed in service.

(2) Airbus Model A300 B4-600R, A300 C4-600R, and A300 F4-600R series airplanes (fitted with a trim tank), all serial numbers, certificated in any category, except airplanes on which Airbus Modifications 12226, 12365, 12490, 12308, 12294, and 12476 have been incorporated in production, or on which the service bulletins listed in paragraphs (c)(2)(i), (c)(2)(ii), and (c)(2)(iii) of this AD have been performed in service.

(i) Airbus Service Bulletin A300-28-6064, Revision 01, dated April 3, 2007.

(ii) Airbus Service Bulletin A300-28-6068, dated July 20, 2005.

(iii) Airbus Service Bulletin A300-28-6077, dated July 25, 2005; or A300-28-6077, Revision 01, dated October 26, 2006.

Subject

(d) Air Transport Association (ATA) of America Code 28: Fuel.

Reason

(e) The mandatory continuing airworthiness information (MCAI) states:

[T]he FAA has published SFAR 88 (Special Federal Aviation Regulation 88). In their letters referenced 04/00/02/07/01-L296, dated March 4th, 2002 and 04/00/02/07/03-L024, dated February 3rd, 2003, the JAA (Joint Aviation Authorities) recommended the application of a similar regulation to the National Aviation Authorities (NAA).

Under this regulation, all holders of type certificates for passenger transport aircraft with either a passenger capacity of 30 or more, or a payload capacity of 7,500 pounds (3402 kg) or more, which have received their certification since January 1st, 1958, are required to conduct a design review against explosion risks.

The replacement of some types of P-clips and improvement of the electrical bonding of the equipment in the fuel tanks are rendered mandatory by this AD.

Note: Initially, EASA AD 2006-0325, which addresses the same unsafe condition, also applied to A300-600 aircraft. The approval holder subsequently introduced additional work at revision 1 of SB (service bulletin) A300-28-6064 applicable to A300-600 aircraft. [On September 21, 2007, the FAA issued parallel AD 2007-20-04 for only Airbus Model A300 Airplanes and Model A310 Airplanes, which was published in the Federal Register (72 FR 56258, October 3, 2007).]

As a result, AD 2006-0325 has been revised to remove A300-600 aircraft from applicability, and this new AD applicable to A300-600 aircraft is issued.

The unsafe condition is damage to wiring in the wing, center, and trim fuel tanks, due to failed P-clips used for retaining the wiring and pipes, which could result in a possible fuel ignition source in the wing, center, or trim fuel tanks. The corrective action is checking the electrical bonding points of certain equipment in the center fuel tank for the presence of a blue coat and doing related investigative and corrective actions if necessary. The related investigative action is to measure the electrical resistance between the equipment and structure, if a blue coat is not present. The corrective action is to electrically bond the equipment, if the measured resistance is greater than 10 milliohms. The corrective action also includes installing new bonding leads and electrical bonding points on certain equipment in the left and right wing fuel tanks and center fuel tank.

Actions and Compliance

(f) Within 40 months after the effective date of this AD, unless already done, do the following actions.

(1) Remove NSA5516-XXND or NSA5516-XXNJ type P-clips, used in the wing and center fuel tanks to retain wiring and pipes, and replace them by NSA5516-XXNF type P-clips in accordance with the instructions of Airbus Service Bulletin A300-28-6068, dated July 20, 2005.

(2) Check the electrical bonding points in the center tank and do all applicable related investigative and corrective actions, and install additional bonding leads and electrical bonding points in the wing and center fuel tanks in accordance with the instructions of Airbus Service Bulletin A300-28-6064, Revision 01, dated April 3, 2007. Do all applicable related investigative and corrective actions before further flight.

(3) For airplanes fitted with a trim tank, in addition to the actions defined in paragraphs (f)(1) and (f)(2) of this AD, install bonding leads and electrical bonding points in the trim tanks, in accordance with the instructions of Airbus Service Bulletin A300-28-6077, Revision 01, dated October 26, 2006.

(4) Actions done before the effective date of this AD in accordance with Airbus Service Bulletin A300-28-6064, dated July 28, 2005, for aircraft under configuration 05, as defined in the service bulletin, are considered acceptable for compliance with the requirements of paragraph (f)(2) of this AD.

(5) Actions done before the effective date of this AD in accordance with Airbus Service Bulletin A300-28-6077, dated July 25, 2005, for aircraft under configuration 05, as defined in the service bulletin, are considered acceptable for compliance with the requirements of paragraph (f)(3) of this AD.

FAA AD Differences

Note: This AD differs from the MCAI and/or service information as follows: The applicability of the MCAI does not address Airbus Modification 12490. We have added this Modification number to the applicability of this AD, as requested by Airbus and coordinated with the European Aviation Safety Agency (EASA).

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2007-0233, dated August 27, 2007, and the service information listed in Table 1 of this AD, for related information.

Table 1.—Service Information
Airbus Service Bulletin | Revision level | Date
A300-28-6064 | 01 | April 3, 2007.
A300-28-6068 | Original | July 20, 2005.
A300-28-6077 | 01 | October 26, 2006.

Material Incorporated by Reference

(i) You must use the service information specified in Table 2 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue SW., Renton, Washington; or at the National Archives and Records Administration (NARA). For information on the availability of this material at NARA, call (202) 741-6030, or go to: http://www.archives.gov/federal-register/cfr/ibr-locations.html.

Table 2.—Material Incorporated by Reference
Airbus Service Bulletin | Revision level | Date
A300-28-6064 | 01 | April 3, 2007.
A300-28-6068 | Original | July 20, 2005.
A300-28-6077 | 01 | October 26, 2006.

Issued in Renton, Washington, on January 18, 2008.
Ali Bahrami,
Manager, Transport Airplane Directorate, Aircraft Certification Service.

[FR Doc. E8-1462 Filed 1-30-08; 8:45 am]

BILLING CODE 4910-13-P